SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: April 1-30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals by Rule Issued Under 18 CFR 806.22(e)

1. Sunoco Pipeline, L.P.; ABR-201904002; Shirley Township, Huntingdon County, Pa.; Consumptive Use of Up to 0.200 mgd; Approval Date: April 29, 2019.

2. Sunoco Pipeline, L.P.; ABR-201904003; Woodbury Township, Blair County, Pa.; Consumptive Use of Up to 0.200 mgd; Approval Date: April 29, 2019.

Approvals by Rule Issued Under 18 CFR 806.22(f)

1. Pennsylvania General Energy Company, L.L.C.; Pad ID: SGL 75 Pad F; ABR-201403005.R1; McHenry Township, Lycoming County, Pa.; Consumptive Use of Up to 3.0000 mgd; Approval Date: April 1, 2019.

2. Chesapeake Appalachia, L.L.C.; Pad ID: TA, ABR-201403011.R1; Colley Township, Sullivan County, Pa.; Consumptive Use of Up to 7.5000 mgd; Approval Date: April 1, 2019.

3. Chesapeake Appalachia, L.L.C.; Pad ID: Garrison, ABR-201403012.R1; Washington Township, Wyoming County, Pa.; Consumptive Use of Up to 7.5000 mgd; Approval Date: April 1, 2019.

4. Chief Oil & Gas, LLC; Pad ID: Herbert Drilling Pad, ABR-201404001.R1; Harford and Lenox Townships, Susquehanna County, Pa.; Consumptive Use of Up to 2.5000 mgd; Approval Date: April 16, 2019.

5. JKLM Energy, LLC; PAD ID: Greisemer 171, ABR-201904001; Hector Township, Potter County, Pa.; Consumptive Use of Up to 3.0000 mgd; Approval Date: April 22, 2019.

6. Chief Oil & Gas, LLC; Pad ID: I. Harvey Drilling Pad, ABR-201404006.R1; Elkland Township, Sullivan County, Pa.; Consumptive Use of Up to 2.5000 mgd; Approval Date: April 29, 2019.

7. Pennsylvania General Energy Company, L.L.C.; Pad ID: SGL 75 Pad A; ABR-201404007.R1; McHenry Township, Lycoming County, Pa.; Consumptive Use of Up to 3.0000 mgd; Approval Date: April 29, 2019.

Authority: Pub. L. 91-575, 84 Stat. 1509 et seq., 18 CFR parts 806 and 808.

Dated: May 9, 2019.
Jason E. Oyler,
General Counsel and Secretary to the Commission.

[FR Doc. 2019-10035 Filed 5-14-19; 8:45 am]

BILLING CODE 7040-01-P